DEPARTMENT OF ENERGY

Federal Energy Regulatory Commission

Combined Notice of Filings #1

Take notice that the Commission received the following electric corporate filings:

Docket Numbers: EC23-67-000.

Applicants: Foxhound Solar, LLC, Dominion Solar Projects VI, Inc.

Description: Joint Application for Authorization Under Section 203 of the Federal Power Act of Foxhound Solar, LLC, et al.

Filed Date: 3/23/23.

Accession Number: 20230323-5260.

Comment Date: 5 p.m. ET 4/13/23.

Take notice that the Commission received the following electric rate filings:

Docket Numbers: ER22-865-002.

Applicants: Glaciers Edge Wind Project, LLC.

Description: Compliance filing: Compliance Filing re Revised Rate Schedule of Glaciers Edge to be effective 4/1/2022.

Filed Date: 3/24/23.

Accession Number: 20230324-5177.

Comment Date: 5 p.m. ET 4/14/23.

Docket Numbers: ER22-1262-001.

Applicants: New York Independent System Operator, Inc.

Description: Compliance filing: NYISO Compliance re: FERC 2/23/23 Order on NYISO Order 676-J Compliance to be effective 2/23/2023.

Filed Date: 3/24/23.

Accession Number: 20230324-5192.

Comment Date: 5 p.m. ET 4/14/23.

Docket Numbers: ER23-22-001.

Applicants: Puget Sound Energy, Inc.

Description: Compliance filing: PSE Compliance Filing to be effective 5/22/2023.

Filed Date: 3/24/23.

Accession Number: 20230324-5099.

Comment Date: 5 p.m. ET 4/14/23.

Docket Numbers: ER23-426-002.

Applicants: California Independent System Operator Corporation.

Description: Compliance filing: 2023-03-23 NAESB Compliance Filing—Version 003.3 to be effective 2/23/2023.

Filed Date: 3/23/23.

Accession Number: 20230323-5181.

Comment Date: 5 p.m. ET 4/13/23.

Docket Numbers: ER23-1058-001.

Applicants: PJM Interconnection, L.L.C.

Description: Tariff Amendment: Deficiency Response, Requests for 5-day Comments and Action by April 7 to be effective 4/8/2023.

Filed Date: 3/23/23.

Accession Number: 20230323-5117.

Comment Date: 5 p.m. ET 3/28/23.

Docket Numbers: ER23-1255-000.

Applicants: Hecate Grid Clermont 1 LLC.

Description: Hecate Grid Clermont 1 LLC submits Supplement Information response to Waiver Request and a Request for Shortened Comment Period.

Filed Date: 3/24/23.

Accession Number: 20230324-5167.

Comment Date: 5 p.m. ET 3/28/23.

Docket Numbers: ER23-1363-001.

Applicants: PJM Interconnection, L.L.C.

Description: Tariff Amendment: Amendment of ISA, SA No. 6822; Queue No. AF1-328 in Docket ER23-1363-000 to be effective 2/14/2023.

Filed Date: 3/23/23.

Accession Number: 20230323-5204.

Comment Date: 5 p.m. ET 4/13/23.

Docket Numbers: ER23-1449-000.

Applicants: AVEP BESS, LLC.

Description: Baseline eTariff Filing: Certificate of Concurrence for LGIA Co-Tenancy Agreement to be effective 3/24/2023.

Filed Date: 3/23/23.

Accession Number: 20230323-5171.

Comment Date: 5 p.m. ET 4/13/23.

Docket Numbers: ER23-1450-000.

Applicants: Chaparral Springs, LLC.

Description: § 205(d) Rate Filing: Certificate of Concurrence for LGIA Co-Tenancy Agreement to be effective 3/24/2023.

Filed Date: 3/23/23.

Accession Number: 20230323-5175.

Comment Date: 5 p.m. ET 4/13/23.

Docket Numbers: ER23-1451-000.

Applicants: Rabbitbrush Solar, LLC.

Description: § 205(d) Rate Filing: Certificate of Concurrence for LGIA Co-Tenancy Agreement to be effective 3/24/2023.

Filed Date: 3/23/23.

Accession Number: 20230323-5190.

Comment Date: 5 p.m. ET 4/13/23.

Docket Numbers: ER23-1452-000.

Applicants: PJM Interconnection, L.L.C.

Description: § 205(d) Rate Filing: Original ISA, SA No. 6835; Queue No. AD2-162 to be effective 3/6/2023.

Filed Date: 3/24/23.

Accession Number: 20230324-5064.

Comment Date: 5 p.m. ET 4/14/23.

Docket Numbers: ER23-1453-000.

Applicants: Southern California Edison Company.

Description: § 205(d) Rate Filing: SCE Revision to Formula Rate Tariff Authorized 2023 PBOPs Expense Amount to be effective 1/1/2023.

Filed Date: 3/24/23.

Accession Number: 20230324-5081.

Comment Date: 5 p.m. ET 4/14/23.

Docket Numbers: ER23-1454-000.

Applicants: New York Independent System Operator, Inc., Niagara Mohawk Power Corporation.

Description: § 205(d) Rate Filing: New York Independent System Operator, Inc. submits tariff filing per 35.13(a)(2)(iii: Joint 205: Second Amended LGIA among NYISO, National Grid, Ball Hill Wind SA2473 to be effective 3/10/2023.

Filed Date: 3/24/23.

Accession Number: 20230324-5090.

Comment Date: 5 p.m. ET 4/14/23.

Docket Numbers: ER23-1455-000.

Applicants: PacifiCorp.

Description: § 205(d) Rate Filing: OATT Revised Attachment H-1—(Rev Depreciation Rates 2023) to be effective 6/1/2023.

Filed Date: 3/24/23.

Accession Number: 20230324-5095.

Comment Date: 5 p.m. ET 4/14/23.

Docket Numbers: ER23-1456-000.

Applicants: PJM Interconnection, L.L.C.

Description: § 205(d) Rate Filing: Amendment to ISA, SA No. 6671; Queue No. AF1-038 to be effective 5/24/2023.

Filed Date: 3/24/23.

Accession Number: 20230324-5127.

Comment Date: 5 p.m. ET 4/14/23.

Docket Numbers: ER23-1457-000.

Applicants: PJM Interconnection, L.L.C.

Description: § 205(d) Rate Filing: Original NSA, SA No. 6846; Queue Nos. P22, O38 to be effective 2/24/2023.

Filed Date: 3/24/23.

Accession Number: 20230324-5132.

Comment Date: 5 p.m. ET 4/14/23.

Docket Numbers: ER23-1458-000.

Applicants: Tucson Electric Power Company.

Description: § 205(d) Rate Filing: Amended and Restated Sunzia Transmission Interconnection Agreement to be effective 5/24/2023.

Filed Date: 3/24/23.

Accession Number: 20230324-5145.

Comment Date: 5 p.m. ET 4/14/23.

Docket Numbers: ER23-1459-000.

Applicants: PJM Interconnection, L.L.C.

Description: § 205(d) Rate Filing: Amendment to ISA, SA No. 997; Queue No. I12 (amend) to be effective 5/24/2023.

Filed Date: 3/24/23.

Accession Number: 20230324-5173.

Comment Date: 5 p.m. ET 4/14/23.

Docket Numbers: ER23-1460-000.

Applicants: San Diego Gas & Electric Company.

Description: § 205(d) Rate Filing: Service Agreement No. 408 FERC Electric Tariff Volume No. 11 to be effective 1/10/2023.

Filed Date: 3/24/23.

Accession Number: 20230324-5176.

Comment Date: 5 p.m. ET 4/14/23.

Docket Numbers: ER23-1461-000.

Applicants: San Diego Gas & Electric Company.

Description: § 205(d) Rate Filing: Service Agreement No. 396 FERC Electric Tariff Volume No. 11 to be effective 11/29/2021.

Filed Date: 3/24/23.

Accession Number: 20230324-5180.

Comment Date: 5 p.m. ET 4/14/23.

Docket Numbers: ER23-1462-000.

Applicants: Midcontinent Independent System Operator, Inc.

Description: § 205(d) Rate Filing: 2023-03-24_SA 3205 Termination of Clinton Wind-Duke Energy GIA (J446) to be effective 3/25/2023.

Filed Date: 3/24/23.

Accession Number: 20230324-5183.

Comment Date: 5 p.m. ET 4/14/23.

Docket Numbers: ER23-1463-000.

Applicants: Black Hills Power, Inc.

Description: § 205(d) Rate Filing: Revisions to Rate Schedule No. 10, Balancing Authority Agreement to be effective 4/1/2023.

Filed Date: 3/24/23.

Accession Number: 20230324-5187.

Comment Date: 5 p.m. ET 4/14/23.

Docket Numbers: ER23-1464-000.

Applicants: Otter Tail Power Company.

Description: § 205(d) Rate Filing: Remedial Action Scheme Service to be effective 5/23/2023.

Filed Date: 3/24/23.

Accession Number: 20230324-5191.

Comment Date: 5 p.m. ET 4/14/23.

Docket Numbers: ER23-1465-000.

Applicants: Midcontinent Independent System Operator, Inc.

Description: Compliance filing: 2023-03-24_MISO Tariff Waiver re: Planning Resource Auction to be effective N/A.

Filed Date: 3/24/23.

Accession Number: 20230324-5228.

Comment Date: 5 p.m. ET 3/27/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 24, 2023.
Debbie-Anne A. Reese,
Deputy Secretary.

[FR Doc. 2023-06596 Filed 3-29-23; 8:45 am]

BILLING CODE 6717-01-P